ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, January 7-9, 2013 on the times and location listed below.

DATES: The schedule of events is as follows:

Monday, January 7, 2013

10:30-4:00 p.m. Ad Hoc Rulemaking Committees: Closed to Public

Tuesday, January 8, 2013

9:30-11:00 a.m. Ad Hoc Committee on Frontier Issues

11:00-Noon Planning and Evaluation Committee

1:30-2:30 p.m. Technical Programs Committee

3:00-3:30 Ad Hoc Committee on Accessible Design in Education

3:30-4:00 Budget Committee

Wednesday, January 9, 2013

9:30 a.m.-Noon Ad Hoc Committee on Information and Communications Technologies: Closed to Public

1:30-3:00 p.m. Board Meeting

ADDRESSES: Meetings will be held at the Access Board Conference Room, 1331 F Street NW., suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, January 9, the Access Board will consider the following agenda items:

• Administer Oath of Office to new appointees

• Approval of the draft September 12, 2012 meeting minutes (vote)

• Approval of the draft November 13-14, 2012 meeting minutes (vote)

• Planning and Evaluation Committee Report

• Technical Programs Committee Report

• Budget Committee Report

• Ad Hoc Committee Reports: Outdoor Developed Areas, final rule conforming amendment (vote); Transportation Vehicles, charter for new Rail Advisory Committee (vote)

• Executive Director's Report

• Public Comment, Open Topics

All meetings are accessible to persons with disabilities. An assistive listening system, computer assisted real-time transcription (CART), and sign language interpreters will be available at the Board meeting and committee meetings. Persons attending Board meetings are requested to refrain from using perfume, cologne, and other fragrances for the comfort of other participants (see www.access-board.gov/about/policies/fragrance.htm for more information).

David M. Capozzi,
Executive Director.

[FR Doc. 2012-30473 Filed 12-17-12; 8:45 am]

BILLING CODE 8150-01-P